DEPARTMENT OF COMMERCE

International Trade Administration

A-570-873; A-791-815

Ferrovanadium from the People's Republic of China and the Republic of South Africa: Continuation of Antidumping Duty Orders

AGENCY: Import Administration, International Trade Administration, Department of Commerce.

SUMMARY: As a result of the determinations by the Department of Commerce (“Department”) and the International Trade Commission (“ITC”) that revocation of the existing antidumping duty (“AD”) orders on ferrovanadium from the People's Republic of China (“PRC”) and the Republic of South Africa (“South Africa”) would likely lead to continuation or recurrence of dumping and material injury to an industry in the United States within a reasonably foreseeable time, the Department is publishing this notice of continuation of the AD orders.

EFFECTIVE DATE: December 19, 2008.

FOR FURTHER INFORMATION CONTACT: Juanita H. Chen at 202-482-1904; AD/CVD Operations, Import Administration, International Trade Administration, U.S. Department of Commerce, 14th Street and Constitution Avenue, NW, Washington, DC 20230.

SUPPLEMENTARY INFORMATION:

Background

On December 3, 2007, the Department initiated sunset reviews of the AD orders on ferrovanadium from the PRC and South Africa, pursuant to section 751(c) of the Tariff Act of 1930, as amended (“Act”). See Initiation of Five-year (“Sunset”) Reviews, 72 FR 67890 (December 3, 2007); see also Notice of Amended Final Antidumping Duty Determination of Sales at Less Than Fair Value and Antidumping Duty Order: Ferrovanadium From the People's Republic of China, 68 FR 4168 (January 28, 2003); Notice of Antidumping Duty Order: Ferrovanadium from the Republic of South Africa, 68 FR 4169 (January 28, 2003). As a result of its reviews, the Department found that revocation of these AD orders would likely lead to continuation or recurrence of dumping and notified the ITC of the margins likely to prevail were the orders revoked. See Ferrovanadium from the People's Republic of China and the Republic of South Africa: Final Results of the Expedited Sunset Reviews of the Antidumping Duty Orders, 73 FR 19192 (April 9, 2008). On November 13, 2008, the ITC determined, pursuant to section 751(c) of the Act, that revocation of the AD orders on ferrovanadium from the PRC and South Africa would likely lead to continuation or recurrence of material injury to an industry in the United States within a reasonably foreseeable time. See Ferrovanadium From China and South Africa, 73 FR 72837 (December 1, 2008), and ITC Publication 4046, Investigation Nos. 731-TA-986 and 987 (Review) (November 2008).

Scope of the Orders

The scope of the orders covers all ferrovanadium regardless of grade, chemistry, form, shape, or size. Ferrovanadium is an alloy of iron and vanadium that is used chiefly as an additive in the manufacture of steel. The merchandise is commercially and scientifically identified as vanadium. The scope specifically excludes vanadium additives other than ferrovanadium, such as nitrided vanadium, vanadium-aluminum master alloys, vanadium chemicals, vanadium oxides, vanadium waste and scrap, and vanadium-bearing raw materials such as slag, boiler residues and fly ash. Merchandise under the Harmonized Tariff Schedule of the United States (“HTSUS”) item numbers 2850.00.2000, 8112.92.0600, 8112.92.7000 and 8112.99.2000 are specifically excluded.¹ Ferrovanadium is classified under HTSUS item number 7202.92.00. Although the HTSUS item number is provided for convenience and customs purposes, the Department's written description of the scope of these orders remains dispositive.

¹ In 2007, the HTSUS classifications of merchandise excluded from the scope changed from 8112.40.3000 to 8112.92.0600, and from 8112.40.6000 to 8112.92.7000 and 8112.99.2000. See Harmonized Tariff Schedule of the United States (2007) (Rev. 1), available at http://www.usitc.gov.

Continuation of Order

As a result of the determinations by the Department and the ITC that revocation of the AD orders on ferrovanadium from the PRC and South Africa would likely lead to continuation or recurrence of dumping and material injury to an industry in the United States, pursuant to section 751(d)(2) of the Act, the Department hereby orders the continuation of the AD orders on ferrovanadium from the PRC and South Africa. U.S. Customs and Border Protection will continue to collect AD cash deposits at the rates in effect at the time of entry for all imports of subject merchandise. This review covers imports from all manufacturers and exporters of ferrovanadium from the PRC and South Africa.

The effective date of continuation of these AD orders will be the date of publication in the Federal Register of this notice. Pursuant to section 751(c)(2) of the Act, the Department intends to initiate the next five-year review of these orders not later than November 2013.

These five-year (“sunset”) reviews and notice are in accordance with section 751(c) of the Act and published pursuant to section 777(i)(1) of the Act.

Dated: December 12, 2008.
Stephen J. Claeys,
Deputy Assistant Secretary for Antidumping and Countervailing Duty Operations.

[FR Doc. E8-30271 Filed 12-18-08; 8:45 am]

Billing Code: 3510-DS-S